DEPARTMENT OF ENERGY

Federal Energy Regulatory Commission

[Project No. 2555-019]

Kennebec Water District; Messalonskee Stream Hydro, LLC; Notice of Application for Transfer of License and Soliciting Comments, Motions To Intervene, and Protests

On May 28, 2019, Kennebec Water District (transferor) and Messalonskee Stream Hydro, LLC (transferee) filed an application for the transfer of license of the Automatic Hydroelectric Project No. 2555. The project is located on the Messalonskee Stream in Kennebec County, Maine. The project does not occupy federal lands.

The applicants seek Commission approval to transfer the license for the Automatic Hydroelectric Project from the transferor to the transferee.

Applicants Contact: For transferor: Roger Crouse, General Manager, Kennebec Water District, 6 Cool Street, Walterville, ME 04901, (207) 872-2763, Email: rcrouse@kennebecwater.org; and William S. Harwood, Verrill Dana LLP, One Portland Square, Portland ME 04101, 207-774-4000, Email: wharwood@verrilldana.com

For transferee: Andrew Locke, Messalonskee Stream Hydro LLC c/o Essex Hydro Associates, LLC, 55 Union Street, 4th Floor, Boston, MA 02108, (617) 367-0032, Email: alocke@essexhydro.com; Elizabeth W. Whittle, Nixon Peabody, LLP, 799 Ninth Street NW, Suite 500, Washington, DC 20001, (202) 585-8338, (202)585-8080 (fax), Email: ewhittle@nixonpeabody.com

FERC Contact: Anumzziatta Purchiaroni, (202) 502-6191, anumzziatta.purchiaroni@ferc.gov.

Comments, Protests, or Motions to Intervene: Anyone may submit comments, protests, or motions to intervene in accordance with the requirements of the Commission's Rules of Practice and Procedure, 18 CFR 385.210, .211, and .214, 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments.

For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2555-019.

Dated: June 26, 2019.
Kimberly D. Bose,
Secretary.

[FR Doc. 2019-14081 Filed 7-1-19; 8:45 am]

BILLING CODE 6717-01-P